DEPARTMENT OF COMMERCE

International Trade Administration

Initiation of Antidumping and Countervailing Duty Administrative Reviews

AGENCY: Import Administration, International Trade Administration, Department of Commerce.

SUMMARY: The Department of Commerce (the Department) has received requests to conduct administrative reviews of various antidumping and countervailing duty orders and findings with February anniversary dates. In accordance with the Department's regulations, we are initiating those administrative reviews.

EFFECTIVE DATE: March 28, 2007.

FOR FURTHER INFORMATION CONTACT: Sheila E. Forbes, Office of AD/CVD Operations, Customs Unit, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b)(2004), for administrative reviews of various antidumping and countervailing duty orders and findings with February anniversary dates. With respect to the antidumping duty orders on Frozen Warmwater Shrimp from Brazil, Ecuador, India, Thailand, the People's Republic of China and the Socialist Republic of Vietnam, the initiation of the antidumping duty administrative review for these cases will be published in a separate initiation notice. The Department also received requests to continue the deferral of the 2005 administrative reviews of the antidumping and countervailing duty orders on low enriched uranium from France.¹

¹ On April 5, 2006, in response to requests, the Department deferred the initiation of the 2005 antidumping and countervailing duty administrative reviews on imports of low enriched uranium from France. See Initiation of Antidumping and Countervailing Duty Administrative Reviews and Deferral of Administrative Reviews, 71 FR 17077 (April 5, 2006). These reviews are being deferred for another year based on submissions filed by all parties on February 1, 2007 and February 28, 2007.

Initiation of Reviews:

In accordance with section 19 CFR 351.221(c)(1)(i), we are initiating administrative reviews of the following antidumping and countervailing duty orders and findings. We intend to issue the final results of these reviews not later than February 28, 2008.

Antidumping duty proceedings | Period to be reviewed
BRAZIL: Frozen Warmwater Shrimp ²
A-351-838 | 2/1/06-1/31/07
ECUADOR: Frozen Warmwater Shrimp ³
A-331-802 | 2/1/06-1/31/07
FRANCE: Low Enriched Uranium
A-427-818 | 2/1/06-1/31/07
Eurodif S.A./AREVA NC (formerly COGEMA)
INDIA: Stainless Steel Bar
A-533-810 | 2/1/06-1/31/07
Chandan Steel, Ltd
D.H. Exports Pvt. Ltd
Sunflag Iron & Steel Co., Ltd
INDIA: Forged Stainless Steel Flanges
A-533-809 | 2/1/06-1/31/07
Hilton Metal Forging Ltd
Shree Ganesh Forgings, Ltd
Echjay Forgings Pvt. Ltd
Nakshatra Enterprises Pvt. Ltd
INDIA: Frozen Warmwater Shrimp ⁴
A-533-840 | 2/1/06-1/31/07
REPUBLIC OF KOREA: Certain Cut-to-Length Carbon-Quality Steel Plate
A-580-836 | 2/1/06-1/31/07
Dongkuk Steel Mill Co., Ltd
THAILAND: Frozen Warmwater Shrimp ⁵
A-549-822 | 2/1/06-1/31/07
THE PEOPLE'S REPUBLIC OF CHINA: Axes/Adzes ⁶
A-570-803 | 2/1/06-1/31/07
Truper Herramientas S.A. de C.V
THE PEOPLE'S REPUBLIC OF CHINA: Bars/Wedges*
A-570-803 | 2/1/05-1/31/06
Truper Herramientas S.A. de C.V
THE PEOPLE'S REPUBLIC OF CHINA: Frozen Warmwater Shrimp ⁷
A-570-893 | 2/1/06-1/31/07
THE PEOPLE'S REPUBLIC OF CHINA: Hammers/Sledges*
A-570-803 | 2/1/06-1/31/07
Truper Herramientas S.A. de C.V
THE PEOPLE'S REPUBLIC OF CHINA: Picks/Mattocks*
A-570-803 | 2/1/06-1/31/07
Truper Herramientas S.A. de C.V
THE PEOPLE'S REPUBLIC OF CHINA: Certain Preserved Mushrooms ⁸
A-570-851 | 2/1/06-1/31/07
China National Cereals, Oils, & Foodstuffs Import & Export Corporation
China Processed Food Import & Export Company
COFCO (Zhangzhou) Food Industrial Co., Ltd
Fujian Yu Xing Fruit and Vegetable Foodstuff Development Co
Xiamen Jiahua Import & Export Trading Co., Ltd.
SOCIALIST REPUBLIC OF VIETNAM: Frozen Warmwater Shrimp ⁹
A-552-802 | 2/1/06-1/31/07
Countervailing Duty Proceedings:
FRANCE: Low Enriched Uranium
C-427-819 | 1/1/06-12/31/06
Eurodif S.A./AREVA NC (formerly COGEMA)
REPUBLIC OF KOREA: Certain Cut-to-Length Carbon-Quality Steel Plate
C-580-837 | 1/1/06-12/31/06
Dongkuk Steel Mill Co., Ltd
TC Steel
DSEC; a subsidiary of Daewoo Shipbuilding & Marine Engineeering
Suspension Agreements:
None
² The initiation of the administrative review for the above referenced case will be published in a separate initiation notice.
³ The initiation of the administrative review for the above referenced case will be published in a separate initiation notice.
⁴ The initiation of the administrative review for the above referenced case will be published in a separate initiation notice.
⁵ The initiation of the administrative review for the above referenced case will be published in a separate initiation notice.
⁶ (*) If the one of the above-named companies does not qualify for a separate rate, all other exporters of Heavy Forged Hand Tools from the People's Republic of China who have not qualified for a separate rate are deemed to be covered by this review as part of the single PRC entity of which the named exporters are a part.
⁷ The initiation of the administrative review for the above referenced case will be published in a separate initiation notice.
⁸ If one of the above-named companies does not qualify for a separate rate, all other exporters of certain preserved mushrooms from the People's Republic of China who have not qualified for a separate rate are deemed to be covered by this review as part of the single PRC entity of which the named exporters are a part.
⁹ The initiation of the administrative review for the above referenced case will be published in a separate initiation notice.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: March 21, 2007.
Stephen J. Claeys,
Deputy Assistant Secretary for Import Administration.

[FR Doc. E7-5689 Filed 3-27-07; 8:45 am]

Billing Code: 3510-DS-S